DEPARTMENT OF THE INTERIOR

Fish and Wildlife Service

50 CFR Part 17

[Docket No. FWS-R8-ES-2010-0016]

Endangered and Threatened Wildlife and Plants; 90-Day Finding on a Petition To List Thorne's Hairstreak Butterfly as Endangered

Correction

In Federal Register document 2010-7547 beginning on page 17062 in the issue of April 5, 2010, make the following correction:

On page 17062, proposed rule document 2010-7547 was inadvertently published in the Rules section of the issue of April 5, 2010, beginning on page 17062. It should have appeared in the Proposed Rules section.

[FR Doc. C1-2010-7547-Filed 4-12-10; 8:45 am]

BILLING CODE 1505-01-D